DEPARTMENT OF ENERGY

Federal Energy Regulatory Commission

Combined Notice of Filings #1

Take notice that the Commission received the following exempt wholesale generator filings:

Docket Numbers: EG25-287-000.

Applicants: Pitt Solar, LLC.

Description: Pitt Solar, LLC submits Notice of Self-Certification of Exempt Wholesale Generator Status.

Filed Date: 4/15/25.

Accession Number: 20250415-5067.

Comment Date: 5 p.m. ET 5/6/25.

Take notice that the Commission received the following Complaints and Compliance filings in EL Dockets:

Docket Numbers: EL25-76-000.

Applicants: Joint Consumer Advocates v. PJM Interconnection, L.L.C.

Description: Complaint of Joint Consumer Advocates v. PJM Interconnection, L.L.C.

Filed Date: 4/14/25.

Accession Number: 20250414-5190.

Comment Date: 5 p.m. ET 5/5/25.

Take notice that the Commission received the following electric rate filings:

Docket Numbers: ER18-128-002.

Applicants: 54KR 8ME LLC.

Description: Compliance filing: Compliance to 2 to be effective 1/31/2025.

Filed Date: 4/15/25.

Accession Number: 20250415-5253.

Comment Date: 5 p.m. ET 5/6/25.

Docket Numbers: ER21-283-005.

Applicants: Hillcrest Solar I, LLC.

Description: Hillcrest Solar I, LLC submits informational filing regarding the upstream change in ownership of Hillcrest Solar pursuant to the Schedule 2 of the PJM Interconnection, L.L.C. Open Access Transmission Tariff.

Filed Date: 4/11/25.

Accession Number: 20250411-5240.

Comment Date: 5 p.m. ET 5/2/25.

Docket Numbers: ER25-1953-000.

Applicants: Southern California Edison Company.

Description: Tariff Amendment: Terminate SGIA & DSA, UCSB Fuel Cell (WDT658/SA Nos. 354-355) to be effective 4/16/2025.

Filed Date: 4/15/25.

Accession Number: 20250415-5082.

Comment Date: 5 p.m. ET 5/6/25.

Docket Numbers: ER25-1954-000.

Applicants: Michigan Electric Transmission Company, LLC.

Description: Tariff Amendment: Notices of Cancellation of Rate Schedule Nos. 61 and 62 to be effective 5/31/2025.

Filed Date: 4/15/25.

Accession Number: 20250415-5083.

Comment Date: 5 p.m. ET 5/6/25.

Docket Numbers: ER25-1955-000.

Applicants: Mid-Atlantic Interstate Transmission, LLC.

Description: § 205(d) Rate Filing: MAIT submits Construction Agmnt, SA No. 7488 to be effective 6/16/2025.

Filed Date: 4/15/25.

Accession Number: 20250415-5092.

Comment Date: 5 p.m. ET 5/6/25.

Docket Numbers: ER25-1956-000.

Applicants: Southern California Edison Company.

Description: Tariff Amendment: Terminate GIA & DSA, CSUSB Fuel Cell (WDT691ISP/SA Nos. 428-429) to be effective 4/16/2025.

Filed Date: 4/15/25.

Accession Number: 20250415-5106.

Comment Date: 5 p.m. ET 5/6/25.

Docket Numbers: ER25-1957-000.

Applicants: PJM Interconnection, L.L.C.

Description: Tariff Amendment: Notice of Cancellation of ISA & ICSA, SA Nos. 6810 & 6811; AE1-179 re: withdrawal to be effective 6/16/2025.

Filed Date: 4/15/25.

Accession Number: 20250415-5126.

Comment Date: 5 p.m. ET 5/6/25.

Docket Numbers: ER25-1958-000.

Applicants: Keystone Appalachian Transmission Company.

Description: § 205(d) Rate Filing: KATCo submits One Amended CA, SA No. 7164 to be effective 6/16/2025.

Filed Date: 4/15/25.

Accession Number: 20250415-5128.

Comment Date: 5 p.m. ET 5/6/25.

Docket Numbers: ER25-1959-000.

Applicants: Alabama Power Company, Georgia Power Company, Mississippi Power Company.

Description: Tariff Amendment: Alabama Power Company submits tariff filing per 35.15: Pine Gate Renewables (Happy Lake Solar) LGIA Termination Filing to be effective 4/15/2025.

Filed Date: 4/15/25.

Accession Number: 20250415-5144.

Comment Date: 5 p.m. ET 5/6/25.

Docket Numbers: ER25-1960-000.

Applicants: Alabama Power Company, Georgia Power Company, Mississippi Power Company.

Description: Tariff Amendment: Alabama Power Company submits tariff filing per 35.15: PEHA bn (Pepper Hammock Solar & Storage) LGIA Termination Filing to be effective 4/15/2025.

Filed Date: 4/15/25.

Accession Number: 20250415-5148.

Comment Date: 5 p.m. ET 5/6/25.

Docket Numbers: ER25-1961-000.

Applicants: Carousel Wind, LLC.

Description: § 205(d) Rate Filing: Application for MBR Authorization—Carousel Wind, LLC to be effective 6/15/2025.

Filed Date: 4/15/25.

Accession Number: 20250415-5150.

Comment Date: 5 p.m. ET 5/6/25.

Docket Numbers: ER25-1962-000.

Applicants: Century Oaks Energy Storage, LLC.

Description: § 205(d) Rate Filing: Application for MBR Authorization—Century Oaks Energy Storage, LLC to be effective 6/15/2025.

Filed Date: 4/15/25.

Accession Number: 20250415-5153.

Comment Date: 5 p.m. ET 5/6/25.

Docket Numbers: ER25-1963-000.

Applicants: Virginia Electric and Power Company.

Description: § 205(d) Rate Filing: VEPCO and DEP submit Amended Interconnection Agreement, SA No. 3453 to be effective 6/1/2025.

Filed Date: 4/15/25.

Accession Number: 20250415-5166.

Comment Date: 5 p.m. ET 5/6/25.

Docket Numbers: ER25-1964-000.

Applicants: PJM Interconnection, L.L.C.

Description: § 205(d) Rate Filing: Amendment to ISA, SA No. 5749; Queue No. AB1-105 to be effective 6/15/2025.

Filed Date: 4/15/25.

Accession Number: 20250415-5167.

Comment Date: 5 p.m. ET 5/6/25.

Docket Numbers: ER25-1965-000.

Applicants: Public Service Company of Colorado.

Description: § 205(d) Rate Filing: 2024-04-15 Grand Valley Rural Powers DWA—862 to be effective 4/1/2025.

Filed Date: 4/15/25.

Accession Number: 20250415-5183.

Comment Date: 5 p.m. ET 5/6/25.

Docket Numbers: ER25-1966-000.

Applicants: Desert Breeze Solar, LLC.

Description: Initial Rate Filing: Market-Based Rate Application to be effective 6/15/2025.

Filed Date: 4/15/25.

Accession Number: 20250415-5190.

Comment Date: 5 p.m. ET 5/6/25.

Docket Numbers: ER25-1967-000.

Applicants: Lockhart Solar PV IV, LLC.

Description: Initial Rate Filing: Market-Based Rate Application to be effective 6/15/2025.

Filed Date: 4/15/25.

Accession Number: 20250415-5197.

Comment Date: 5 p.m. ET 5/6/25.

Take notice that the Commission received the following qualifying facility filings:

Docket Numbers: QF25-688-000.

Applicants: Abbott Laboratories Ltd.

Description: Form 556 of Abbott Laboratories Ltd.

Filed Date: 4/11/25.

Accession Number: 20250411-5238.

Comment Date: 5 p.m. ET 5/2/25.

Docket Numbers: QF25-689-000.

Applicants: BE Development, Inc.

Description: Form 556 of BE Development, Inc.

Filed Date: 4/15/25.

Accession Number: 20250415-5176.

Comment Date: 5 p.m. ET 5/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 15, 2025.
Carlos D. Clay,
Deputy Secretary.

[FR Doc. 2025-06791 Filed 4-18-25; 8:45 am]

BILLING CODE 6717-01-P